DEPARTMENT OF ENERGY

Federal Energy Regulatory Commission

[Docket No. RP07-445-000]

El Paso Natural Gas Company; Notice of Petition for Declaratory Order

May 11, 2007.

Take notice that on May 8, 2007, El Paso Natural Gas Company (El Paso) filed a petition for declaratory order pursuant to Rule 207 of the Commission's Rules and Regulations (18 CFR 385.207), declaring that El Paso's tariff does not permit prior period adjustments for measurement and invoicing errors occurring more than six months prior to the date that UNS Gas Inc. (UNS) disputed transportation invoices, and finding specifically that any erroneous invoices were not the result of a mutual mistake of fact.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. Eastern Time, May 30, 2007.

Kimberly D. Bose,
Secretary.

[FR Doc. E7-9680 Filed 5-18-07; 8:45 am]

BILLING CODE 6717-01-P